INTERNATIONAL TRADE COMMISSION

[USITC SE-10-001]

Government in the Sunshine Act Meeting Notice

Agency Holding the Meeting: United States International Trade Commission.

Time and Date: February 12, 2010 at 11 a.m.

Place: Room 110, 500 E Street, SW., Washington, DC 20436, Telephone: (202) 205-2000.

Status: Open to the public.

Matters to be Considered:

1. Agenda for future meetings: none.

2. Minutes.

3. Ratification List.

4. Inv. Nos. 701-TA-474 and 731-TA-1176 (Preliminary) (Drill Pipe from China)—briefing and vote. (The Commission is currently scheduled to transmit its determinations to the Secretary of Commerce on or before February 16, 2010; Commissioners' opinions are currently scheduled to be transmitted to the Secretary of Commerce on or before February 23, 2010.)

5. Outstanding action jackets: None.

In accordance with Commission policy, subject matter listed above, not disposed of at the scheduled meeting, may be carried over to the agenda of the following meeting.

By order of the Commission.
Issued: February 2, 2010.
William R. Bishop,
Hearings and Meetings Coordinator.

[FR Doc. 2010-2630 Filed 2-3-10; 11:15 am]

BILLING CODE 7020-02-P